DEPARTMENT OF DEFENSE

Defense Acquisition Regulations System

48 CFR Part 205

Defense Federal Acquisition Regulation Supplement (DFARS); Technical Amendments

AGENCY: Defense Acquisition Regulations System, Department of Defense (DoD).

ACTION: Final rule.

SUMMARY: DoD is making a technical amendment to the Defense Federal Acquisition Regulation Supplement (DFARS) to correct a cross-reference within the DFARS text.

DATES: Effective Date: November 19, 2009.

FOR FURTHER INFORMATION CONTACT: Ms. Amy Williams, OUSD (AT&L) DPAP (DARS), IMD 3D139, 3062 Defense Pentagon, Washington, DC 20301-3062. Telephone 703-602-0328; facsimile 703-602-7887.

SUPPLEMENTARY INFORMATION:

A. Background

This final rule amends DFARS text at 205.301, by correcting the cross-reference in paragraph (a)(s-70)(i)(B) to the exception for acquisitions of chemical warfare protective clothing from the restrictions on food, clothing, fabrics, and hand or measuring tools at 225.7002.

List of Subjects in 48 CFR Part 205

Government procurement.

Amy G. Williams,
Editor, Defense Acquisition Regulations System.

Therefore, 48 CFR part 205 is amended as follows:

PART 205—PUBLICIZING CONTRACT ACTIONS

1. The authority citation for 48 CFR part 205 continues to read as follows:

Authority: 41 U.S.C. 421 and 48 CFR chapter 1.

2. In section 205.301, paragraph (a)(i)(B) is revised to read as follows:

205.301 General.

(a) * * *

(i) * * *

(B) The acquisition is for chemical warfare protective clothing, and the contracting officer has determined that an exception to domestic source requirements applies because the acquisition furthers an agreement with a qualifying country, in accordance with 225.7002-2(n).

* * * * *

[FR Doc. E9-27850 Filed 11-18-09; 8:45 am]

BILLING CODE 5001-08-P